DEPARTMENT OF COMMERCE

International Trade Administration

(A-570-848)

Freshwater Crawfish Tail Meat From the People's Republic of China: Initiation of Antidumping Duty New Shipper Reviews

AGENCY: Import Administration, International Trade Administration, Department of Commerce.

SUMMARY: The Department of Commerce (“Department”) has received timely requests to conduct new shipper reviews of the antidumping duty order on freshwater crawfish tail meat from the People's Republic of China (“PRC”). In accordance with 19 CFR 351.214(d), we are initiating reviews for Xuzhou Jinjiang Foodstuffs Co., Ltd. (“Xuzhou Jinjiang”) and Xiping Opeck Food Co., Ltd. (“Xiping Opeck”).¹

¹ The Department received a timely request for an administrative review from Xuzhou Jinjiang on September 30, 2005. The Department notes that the periods of review for both this new shipper review and the above-referenced administrative review are identical. Because both of these requested reviews cover the same period of time (i.e., September 1, 2004, through August 31, 2005), the Department intends to revisit whether both reviews are statutorily required after the initiation of this new shipper review.

EFFECTIVE DATE: November 4, 2005.

FOR FURTHER INFORMATION CONTACT: Stephen Berlinguette or Scott Fullerton, Office 9, Import Administration, International Trade Administration, U.S. Department of Commerce, 14th Street and Constitution Avenue, NW, Washington, DC 20230; telephone: (202) 482-3740 or (202) 482-1386, respectively.

SUPPLEMENTARY INFORMATION:

Background

The Department received timely requests from Xuzhou Jinjiang (September 30, 2005) and Xiping Opeck (September 21, 2005), pursuant to section 751(a)(2)(B) of the Tariff Act of 1930, as amended (“the Act”), and in accordance with 19 CFR 351.214(c), for new shipper reviews of the antidumping duty order on freshwater crawfish tail meat from the PRC. See Notice of Amendment to Final Determination of Sales at Less than Fair Value and Antidumping Duty Order: Freshwater Crawfish Tail Meat from the People's Republic of China, 62 FR 48218 (September 15, 1997).

Pursuant to 19 CFR 351.214(b)(2)(i) and 19 CFR 351.214(b)(2)(iii)(A), in their requests for review, Xuzhou Jinjiang and Xiping Opeck certified that they did not export the subject merchandise to the United States during the period of investigation (POI) and that since the initiation of the investigation they have never been affiliated with any company which exported subject merchandise to the United States during the POI. Pursuant to 19 CFR 351.214(b)(2)(iii)(B), Xuzhou Jinjiang and Xiping Opeck further certified that their export activities are not controlled by the central government of the PRC.

In accordance with 19 CFR 351.214(b)(2)(iv), both Xuzhou Jinjiang and Xiping Opeck, respectively, submitted documentation establishing the following: (1) the date on which it first shipped subject merchandise for export to the United States and the date on which the subject merchandise was first entered, or withdrawn from warehouse, for consumption; (2) the volume of its first shipment, and in the case of Xuzhou Jinjiang, documentation of one subsequent shipment; and (3) the date of its first sale to an unaffiliated customer in the United States.

In addition, the Department conducted customs database queries to confirm that both Xuzhou Jinjiang's and Xiping Opeck's shipments of subject merchandise had entered the United States for consumption and had been suspended for antidumping duties.

Initiation of Reviews

In accordance with section 751(a)(2)(B) of the Act, and 19 CFR 351.214(d)(1), and based on information on the record, we are initiating new shipper reviews for Xuzhou Jinjiang and Xiping Opeck. See Memoranda to the File through James C. Doyle, New Shipper Initiation Checklists, dated October 31, 2005. We intend to issue the preliminary results of this review not later than 180 days after the date on which this review was initiated, and the final results of this review within 90 days after the date on which the preliminary results were issued.

Pursuant to 19 CFR 351.214(g)(1)(i)(A), the period of review (“POR”) for a new shipper review, initiated in the month immediately following the annual anniversary month, will be the one year period immediately preceding the annual anniversary month. Therefore, the POR for the new shipper reviews of Xuzhou Jinjiang and Xiping Opeck will be September 1, 2004, through August 31, 2005.

It is the Department's usual practice in cases involving non-market economies to require that a company seeking to establish eligibility for an antidumping duty rate separate from the country-wide rate provide evidence of de jure and de facto absence of government control over the company's export activities. Accordingly, we will issue questionnaires to Xuzhou Jinjiang and Xiping Opeck, including a separate rates section. The reviews will proceed if the responses provide sufficient indication that Xuzhou Jinjiang and Xiping Opeck are not subject to either de jure or de facto government control with respect to their exports of freshwater crawfish tail meat. However, if the exporter does not demonstrate the company's eligibility for a separate rate, then the company will be deemed not separate from the PRC-wide entity, which exported during the POI. An exporter unable to demonstrate the company's eligibility for a separate rate would hence not meet the requirements of CFR 351.214(b)(2)(i) and its new shipper review will be rescinded. See, Notice of Preliminary Results of Antidumping Duty New Shipper Review and Rescission of New Shipper Reviews: Freshwater Crawfish Tail Meat from the People's Republic of China, 69 FR 53669 (September 2, 2004) and Brake Rotors From the People's Republic of China: Rescission of Second New Shipper Review and Final Results and Partial Rescission of First Antidumping Duty Administrative Review, 64 FR 61581 (November 12, 1999).

In accordance with section 751(a)(2)(B)(iii) of the Act and 19 CFR 351.214(e), we will instruct CBP to allow, at the option of the importer, the posting, until the completion of the review, of a single entry bond or security in lieu of a cash deposit for certain entries of the merchandise exported by either Xuzhou Jinjiang or Xiping Opeck. We will apply the bonding option under 19 CFR 351.107(b)(1)(i) only to entries from these two exporters for which they are also the producers.

Interested parties that need access to proprietary information in these new shipper reviews should submit applications for disclosure under administrative protective orders in accordance with 19 CFR 351.305 and 351.306.

This initiation and notice are in accordance with section 751(a) of the Act (19 U.S.C. 1675(a)) and 19 CFR 351.214(d).

Dated: October 31, 2005.
Stephen J. Claeys,
Deputy Assistant Secretary for Import Administration.

[FR Doc. E5-6128 Filed 11-3-05; 8:45 am]

BILLING CODE 3510-DS-S